PRIVACY AND CIVIL LIBERTIES OVERSIGHT BOARD

[Notice-PCLOB-2022-02; Docket No. 2022-0009; Sequence No. 2]

Notice of Public Forum; Extension of Comment Period

AGENCY: Privacy and Civil Liberties Oversight Board (PCLOB).

ACTION: Notice; Extension of comment period.

SUMMARY: The PCLOB, or Board, is extending the comment period for the notice announcing a request for comments on the Board's Oversight Project examining Section 702 of the Foreign Intelligence Surveillance Act (FISA) that appeared in the Federal Register of September 26, 2022.

DATES: The Board is extending the comment period announced in the notice and request for comments published on September 26, 2022 (87 FR 58393) to Friday, November 4, 2022.

FOR FURTHER INFORMATION CONTACT: Alan Silverleib, Public and Legislative Affairs Officer at 202-997-7719; pao@pclob.gov.

Lois D. Mandell,
Director, Regulatory Secretariat Division, Office of Government-Wide Policy, General Services Administration.

[FR Doc. 2022-23530 Filed 10-27-22; 8:45 am]

BILLING CODE 6820-B5-P